DEPARTMENT OF AGRICULTURE

Food Safety and Inspection Service

[Docket No. 02-012N]

Codex Alimentarius Commission: Meeting of the Codex ad hoc Intergovernmental Task Force on Animal Feeding

AGENCY: Office of the Under Secretary for Food Safety, USDA.

ACTION: Notice of public meeting, request for comments.

SUMMARY: The Office of the Under Secretary for Food Safety, United States Department of Agriculture (USDA), the Center for Veterinary Medicine (CVM), and the Food and Drug Administration (FDA), are sponsoring a public meeting on Tuesday June 4, 2002, to provide information and receive public comments on agenda items that will be discussed at the Second Session of the Codex ad hoc Intergovernmental Task Force on Animal Feeding, which will be held in Copenhagen, Denmark, June 17-20, 2002. The Under Secretary and the Director of CVM recognize the importance of providing interested parties the opportunity to obtain information about the Intergovernmental Task Force on Animal Feeding of the Codex Alimentarius Commission and to address items on the Agenda for the 3rd Session of the Task Force.

DATES: The public meeting is scheduled for Tuesday, June 4, 2002, from 9:30 a.m. to 12:30 p.m.

ADDRESSES: The public meeting will be held in Room 0161 South Agricultural Building, U.S. Department of Agriculture, 1400 Independence Avenue, SW, Washington, DC 20250 (Metro Stop: Smithsonian on the blue and orange line). To receive copies of the documents referenced in the notice contact the FSIS Docket Room, U.S. Department of Agriculture, Food Safety and Inspection Service, Room 102, Cotton Annex, 300 12th Street, SW, Washington, DC 20250-3700. The documents will also be accessible via the World Wide Web at the following address: http://www.codexalimentarius.net under Provisional Agendas. If you have comments, please send an original and two copies to the FSIS Docket Room and reference Docket #02-012N and the document number. All comments submitted will be available for public inspection in the FSIS Docket Room between 8:30 a.m. and 4:30 p.m., Monday through Friday.

FOR FURTHER INFORMATION CONTACT: Edith Kennard, Staff Officer, U.S. Codex Office, Food Safety and Inspection Service, Room 4861, South Building, 1400 Independence Avenue SW, Washington, DC 20250, Phone: (202) 205-7760, Fax: (202) 720-3157. Persons requiring a sign language interpreter or other special accommodations should notify Edith Kennard at the above telephone number.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and EPA manage and carry out U.S. Codex.

The Codex ad hoc Intergovernmental Codex Task Force on Animal Feeding was established by the 23rd Session of the Codex Alimentarius Commission to develop Guidelines or Standards as appropriate on Good Animal Feeding practices with the aim of ensuring safety and quality of foods of animal origin. The ad hoc Task Force is chaired by Denmark.

Issues To Be Discussed at the Public Meeting

Provisional agenda items to be discussed during the public meeting:

—Additional Information on lists established by different governments to control the use of prohibited and undesirable substances in animal feedingstuffs or other approaches

—Information paper on Establishment of Codex maximum levels and residue limits for feedingstuffs and foods

—Consideration of the Revised Draft Code of Practice on Good Animal Feeding

—Consideration of Section 6 “On-Farm Production and Use of Feedingstuffs”

Public Meeting

At the June 4th public meeting, the agenda items will be described, discussed, and attendees will have the opportunity to pose questions and offer comments. Comments may be sent to the FSIS Docket Room (see ADDRESSES). Written comments should state that they relate to activities of the 3rd ad hoc Task Force on Animal Feeding.

Additional Public Notification

Public awareness of all segments of rulemaking and policy development is important. Consequently, in an effort to better ensure that minorities, women, and persons with disabilities are aware of this notice, FSIS will announce it and provide copies of this Federal Register publication in the FSIS Constituent Update. FSIS provides a weekly Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

Done at Washington, DC, on: April 10, 2002.
F. Edward Scarbrough,
U.S. Manager for Codex Alimentarius.

[FR Doc. 02-9361 Filed 4-16-02; 8:45 am]

BILLING CODE 3410-DM-P